DEPARTMENT OF COMMERCE

Bureau of Economic Analysis

[Docket No. 221017-0219]

Federal Economic Statistics Advisory Committee

AGENCY: Bureau of Economic Analysis, Department of Commerce.

ACTION: Notice of request for nominations.

SUMMARY: The Under Secretary for Economic Affairs requests nominations of individuals to the Federal Economic Statistics Advisory Committee (FESAC or the Committee). The Under Secretary for Economic Affairs, in coordination with the Directors of the Bureau of Economic Analysis and the U.S. Census Bureau, as well as the Commissioner of the U.S. Department of Labor's Bureau of Labor Statistics, will consider nominations received in response to this notice, as well as from other sources.

DATES: Nominations for the FESAC will be accepted on an ongoing basis and will be considered as and when vacancies arise.

ADDRESSES: Please submit nominations by email to Gianna.marrone@bea.gov (subject line “FESAC Nomination”).

FOR FURTHER INFORMATION CONTACT: Gianna Marrone, Committee Management Official, Department of Commerce, Bureau of Economic Analysis, telephone 301-278-9282, email: gianna.marrone@bea.gov.

SUPPLEMENTARY INFORMATION: The Federal Economic Statistics Advisory Committee was established in accordance with the Federal Advisory Committee Act (Title 5, United States Code, Appendix 2). The following provides information about the Committee, membership, and the nomination process.

Objectives and Scope of FESAC Activities

The Committee advises the Directors of the Bureau of Economic Analysis (BEA) and the U.S. Census Bureau, as well as the Commissioner of the U.S. Department of Labor's Bureau of Labor Statistics (BLS), on statistical methodology and other technical matters related to the design, collection, tabulation, and analysis of federal economic statistics.

Description of the FESAC Member Duties

The Committee functions solely as an advisory committee to the senior officials of BEA, the Census Bureau, and BLS (the agencies). Important aspects of the committee's responsibilities include, but are not limited to:

a. Recommending research to address important technical problems arising in federal economic statistics.

b. Identifying areas in which better coordination of the agencies' activities would be beneficial;

c. Exploring ways to enhance the agencies' economic indicators to make them timelier, more accurate, and more specific to meeting changing demands and future data needs;

d. Improving the means, methods, and techniques to obtain economic information needed to produce current and future economic indicators; and

e. Coordinating, in its identification of agenda items, with other existing academic advisory committees chartered to provide agency-specific advice, for the purpose of avoiding duplication of effort.

The Committee meets once or twice a year, budget permitting. Additional meetings may be held as deemed necessary by the Under Secretary for Economic Affairs or the Designated Federal Official. All Committee meetings are open to the public in accordance with the Federal Advisory Committee Act.

FESAC Membership

The Committee will comprise approximately 16 members who serve at the pleasure of the Secretary of Commerce. Members shall be appointed by the Under Secretary for Economic Affairs in consultation with the agencies. Committee members shall be professionals in appropriate disciplines, including economists, statisticians, survey methodologists, computer scientists, data scientists, and behavioral scientists who are experts in their fields, recognized for their scientific, professional, and operational achievements and objectivity. Membership will represent data users with expertise from the public sector, academia, and the private sector. Members will be chosen to achieve a balanced membership that will meet the needs of the agencies.

Members shall serve as Special Government Employees (SGEs) and shall be subject to ethics rules applicable to SGEs.

A FESAC member term is three years.

Members may serve more than one term as described in the FESAC Charter, available at: https://apps.bea.gov/fesac/.

Compensation for Members

Members of the Committee serve without compensation but may receive reimbursement for Committee-related travel and lodging expenses.

Solicitation of Nominations

The Committee is currently filling one or more positions on the FESAC.

The Under Secretary of Economic Affairs, in consultation with the agencies, will consider nominations of all qualified individuals to ensure that the Committee includes the areas of experience noted above. Individuals may nominate themselves or other individuals, and professional associations and organizations may nominate one or more qualified persons for membership on the Committee. Nominations shall state that the nominee is willing to serve as a member and carry out the duties of the Committee. A nomination package should include the following information for each nominee:

1. A letter of nomination stating the name, affiliation, and contact information for the nominee, the basis for the nomination (i.e., what specific attributes recommend the nominee for service in this capacity), and the nominee's field(s) of experience;

2. a biographical sketch of the nominee;

3. a copy of the nominee's curriculum vitae; and

4. the name, return address, email address, and daytime telephone number at which the nominator can be contacted.

The Committee aims to have a balanced representation among its members, considering such factors as geography, age, sex, race, ethnicity, technical expertise, community involvement, and knowledge of programs and/or activities related to FESAC. Individuals will be selected based on their expertise in or representation of specific areas as needed by FESAC.

All nomination information should be provided in a single, complete package. Interested applicants should send their nomination package to Gianna Marrone, Committee Management Official, at Gianna.Marrone@bea.gov (subject line “FESAC Nomination”).

Authority: Federal Advisory Committee Act (FACA), as amended, 5 U.S.C., App.

Dated: October 13, 2022.
Sabrina L. Montes,
Bureau of Economic Analysis, Designated Federal Official, Federal Economic Statistics Advisory Committee.

[FR Doc. 2022-22982 Filed 10-21-22; 8:45 am]

BILLING CODE 3510-06-P